DEPARTMENT OF HEALTH AND HUMAN SERVICES

Office of the Secretary

[Document Identifier: OS-4040-0002]

Notice of Adoption of Government-Wide Standard Data Elements for Use by Federal Grant Making Agencies—Mandatory Grant Applications/Plans and Related Submissions

AGENCY: Office of the Secretary, Grants.gov Program Management Office, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. Emergency Clearance for the data set was published in the Federal Register on September 3, 2004 [Vol. 69, No. 171]. Public comments from the Emergency Clearance were incorporated into the proposed information collection.

Type of Information Collection Request: Regular.

Title of Information Collection: SF-424 Mandatory (M), Application for Federal Assistance.

Form/OMB No.: OS-4040-0002.

OMB cleared the SF 424(M), Application for Federal Assistance, for emergency use on January 25, 2005.

Use: On February 28, 2005, the Grants.gov Program Management Office, one of the 26 E-Government initiatives, managed by HHS, published the proposed the SF 424(M) collection for public comment in the Federal Register (70 FR 9656). Interested individuals were invited to send comments regarding any aspect of this collection of information. This notice indicates request for extension of OMB clearance for the SF-424 (M), and also responds to comments received on the February 28, 2005, Federal Register notice.

The SF-424 (M) is intended for use as the government-wide data set for the cover page of applications, plans, and related submissions under mandatory grant programs. The form is currently available for use as part of the electronic application process of Grants.gov, which was deployed in October 2003 and is part of the implementation of the Federal Financial Assistance Management Improvement Act of 1999 (Pub. L. 106-107). Federal agencies and applicants/recipients under mandatory grant programs will use the standard cover page data set and definitions for paper and electronic applications/plans/related submissions. The standard data set replaces numerous agency data sets and reduces the administrative burden placed on the grants community. Federal agencies are not required to collect all of the information included in the proposed data set. The agency will identify the data that must be provided by applicants through instructions that will accompany the application package.

We plan to refine the form over time. At this time, no changes are being made to the form, although, in several cases, we made changes to the instructions. Additional standard data elements for other components of an application/plan, e.g., a standard budget, may be proposed at a later date.

Frequency: Recordkeeping, application, and on occasion.

Affected Public: Federal, State, Local and Tribal governments; farms; and non-profit organizations.

Total Annual Respondents: 1,271.

Total Annual Responses: 22,186.

Average Burden Per Response: 1 hour.

Total Annual Hours: 22,186.

Responses To Comments

We received nine sets of comments—eight from Federal agencies and one from a university. The comments generally addressed the following areas: Need for an additional form for mandatory grant programs; length of the form; requested changes to the form or instructions; and desired functionality of the electronic form. The comments in each area are addressed below.

Need for an Additional Form for Mandatory Grant Programs

Several commenters questioned whether creating an additional SF 424 form could be considered streamlining. With the issuance of the SF 424 (M), there are now four variations of the SF 424 in additional to the core SF 424: Mandatory grants, research and related, short organizational, and individual. Each of these variations was developed to accommodate specific types of programs or recipients, whether using different or fewer data elements. The SF 424(M) was developed for use in mandatory grant programs, which differ in from discretionary grants in a number of respects. We believe making these accommodations for specific market segments, including mandatory grant programs, is a significant streamlining. These several versions of the SF 424 represent a reduction from hundreds of agency- and program-specific forms with unique or non-standard elements.

Length of the Form

Several commenters noted the length of the form in the version proposed. Two things should be noted. As a hard-copy form, the SF 424(M) form is no longer than the core SF 424. Although we proposed a continuation page, in response to other comments (see below), in the next version of the form, we have decided to eliminate the continuation page. Additionally, the commenters were viewing a printed version of a PureEdge form. When viewed electronically, the form does not appear as three individual pages but rather as a series of data elements. The elimination of the continuation page will affect the length of the PureEdge form as well.

Requested Changes to the Form or Instructions

Several commenters requested changes to the form and/or instructions. These comments included requests for definitions of terms, addition of data elements, and changes in terminology. We evaluated the requested changes and noted that some of them were not appropriate or were not appropriate for mandatory grant programs, e.g., use of the term “amendment” in lieu of “update” and inclusion of “continuation” as a type of submission.

In the first case, we do not believe that it is appropriate to introduce the term “amendment.” None of the other versions of SF 424 use the term “amendment;” applicants generally do not initiate “amendments.” The term also may be confused with an amended award issued by the Federal awarding agency. As a means of tracking changes to applications, agencies may use the date of submission that will be recorded by Grants.gov. In the second case, continuation applications may be used in discretionary grants programs, but generally are not used in mandatory grant programs. There is no need to modify this form to accommodate the comment because Federal agencies/programs can select from any of the various SF 424 forms and should use the one that best suits their needs.

In several cases, commenters asked for changes that are appropriately handled by the agencies in the agency-or program-specific instructions that will be provided to applicants. This includes advising applicants about how to complete items such as “Type of Submission” or “Frequency.” The form instructions specify those required and optional data elements that will require agency instructions. One commenter indicated that providing information on “areas affected by the project” would be problematic because the nature of the program or project might make it very difficult to pinpoint the effects on specific geographical areas. We believe this is a program-specific issue, which would need to be addressed in the program's application package instructions.

In response to the comments, we have clarified or changed the instructions in several areas. We expanded the instructions related to “consolidated application/plan/funding request.” Also, the instructions, as proposed, limited the “Type of Applicant” choices to those that generally are eligible to receive mandatory grants. Several commenters asked that the potential choices be expanded. Although the excluded applicant types generally are not eligible for mandatory grant programs, the instructions have been modified to indicate that an agency may allow an applicant to choose from any of the applicant types displayed. This is consistent with the objective of having this form primarily reflect the needs of mandatory grant programs but being available for other uses as determined by Federal agencies/program.

For those comments that were germane to mandatory grant programs, in version 2, we plan to make several changes to the form (and corresponding instructions). As part of that effort, we will review the various data elements and determine whether we should change them to more closely align with the core SF 424 or need to retain them as currently used. Among the changes we plan in version 2 are eliminating use of the continuation page. The inclusion of multiple Catalog of Federal Domestic Assistance (CFDA) numbers will be handled other than through a cover page and the other data elements shown on the continuation page will be accommodated through expansion of fields on the cover page or by other means.

Desired Functionality of the Electronic Form

One commenter asked that the form also be in Microsoft Word or Excel format in the belief that applicants do not always have the resources to buy the full version of Adobe Acrobat and Adobe Acrobat Reader does not allow applicants to save documents filled out electronically. Grants.gov has opted to use PureEdge, not Adobe to develop its forms. This software provides fillable forms and is available free of charge from the Grants.gov website.

One commenter requested that, when a CFDA number is entered, the title should automatically be inserted. This functionality exists for the single CFDA number on the cover sheet (the application downloaded by the applicant has the CFDA number and title pre-populated), but not for the additional CFDA numbers. At the time the applicant enters this information, the application is on their desktop, not connected to a source file where this information is available.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed directly to the Desk Officer at the address below: OMB Desk Officer: Katherine Astrich, OMB Human Resources and Housing Branch, Attention: (OMB#OS-4040-0002), New Executive Office Building, Room 10235, Washington DC 20201.

Dated: June 23, 2005.
Robert E. Polson,
Office of the Secretary, Paperwork Reduction Act Reports Clearance Officer.

[FR Doc. 05-13078 Filed 6-30-05; 8:45 am]

BILLING CODE 4168-17-P